DEPARTMENT OF LABOR

Employment and Training Administration

[TA-W-71,775]

Warner Brothers Entertainment, Inc., Warner Brothers Theatrical Enterprises, Including Workers of the Following Operating Entities: Burbank Television Enterprises LLC, Warner Brothers Consumer Products, Inc., Warner Brothers International Television Distribution, Inc., Warner Brothers Distributing, Inc., Warner Brothers Home Entertainment, Inc., Warner Brothers Studio Enterprises, Inc., Warner Brothers Pictures, Warner Brothers Pictures International, Warner Brothers Studio Facilities, and Warner Brothers Entertainment Company, Burbank, CA; Amended Certification Regarding Eligibility To Apply for Worker Adjustment Assistance

In accordance with Section 223 of the Trade Act of 1974, as amended (“Act”), 19 U.S.C. 2273, the Department of Labor issued a Certification of Eligibility to Apply for Worker Adjustment Assistance on September 24, 2009, applicable to workers of Warner Brothers Entertainment, Inc., Warner Brothers Theatrical Enterprises, Burbank, California. The notice was published in the Federal Register on November 17, 2009 (74 FR 59254).

At the request of a company official, the Department reviewed the certification for workers of the subject firm. The company reports that workers from the above-mentioned operating entities provided a variety of technology, administrative, finance, accounting, and order-to-cash processing services supporting the parent facility, Warner Brothers Entertainment, Inc., Burbank, California. Worker separations have occurred at these entities and are expected to continue through 2011.

Based on these findings, the Department is amending this certification to including workers from the above mentioned operating entities in support of Warner Brothers Entertainment, Inc., Burbank, California.

The intent of the Department's certification is to include all workers of Warner Brothers Entertainment, Inc. who were adversely affected by the acquisition of services from India, China and Poland.

The amended notice applicable to TA-W-71,775 is hereby issued as follows:

All workers of Warner Brothers Entertainment, Inc., Warner Brother Theatrical Enterprises, including workers from the following entities: Burbank Television Enterprises LLC, Warner Brothers Consumer Products, Inc., Warner Brothers International Television Distribution, Inc., Warner Brothers Distributing, Inc., Warner Brothers Home Entertainment, Inc., Warner Brothers Studio Enterprises, Inc., Warner Brothers Pictures, Warner Brothers Pictures International, Warner Brothers Studio Facilities, and Warner Brothers Entertainment Company, Burbank, California, who became totally or partially separated from employment on or after July 20, 2008, through September 24, 2011, and all workers in the group threatened with total or partial separation from employment on the date of certification through two years from the date of certification, are eligible to apply for adjustment assistance under Chapter 2 of Title II of the Trade Act of 1974, as amended.

Signed at Washington, DC this 10th day of November, 2010.
Del Min Amy Chen,
Certifying Officer, Office of Trade Adjustment Assistance.

[FR Doc. 2010-29427 Filed 11-22-10; 8:45 am]

BILLING CODE 4510-FN-P